DEPARTMENT OF LABOR

Employment and Training Administration

[TA-W-72,950]

Pittsburgh Coatings, Inc., Ambridge, PA; Notice of Revised Determination on Reconsideration

By application dated May 21, 2010, the Department of Labor (Department) received a request for administrative reconsideration of the Department's Notice of negative determination regarding workers' eligibility to apply for Trade Adjustment Assistance (TAA) and Alternative Trade Adjustment Assistance (ATAA) applicable to workers and former workers of the subject firm. The determination was issued on April 22, 2010. The Department's notice of determination was published in the Federal Register on May 20, 2010 (75 FR 28301). The workers were engaged in employment related to the production of painted and coated structural steel.

The negative determination was based on the Department's findings that increased imports did not contribute importantly to worker separations at the subject firm and that no shift in production to a foreign country occurred.

In the request for reconsideration, the petitioner supplied additional information regarding the customers of the subject firm to supplement what had been gathered during the initial investigation.

As a result of new and additional information obtained during the reconsideration investigation, the Department has determined that, during the relevant period, a major declining customer of the subject firm had increased its imports of articles like or directly competitive with the painted and coated structural steel produced by the subject firm.

The Department has also determined that the increased imports contributed importantly to worker group separations and subject firm sales and/or production declines.

Conclusion

After careful review of the additional facts obtained on reconsideration, I determine that workers of Pittsburgh Coatings, Inc., Ambridge, Pennsylvania, who are engaged in employment related to the production of coated and painted structural steel, meet the worker group certification criteria under Section 222(a) of the Act, 19 U.S.C. 2272(a). In accordance with Section 223 of the Act, 19 U.S.C. 2273, I make the following certification:

All workers of Pittsburgh Coatings, Inc., Ambridge, Pennsylvania, who became totally or partially separated from employment on or after November 23, 2008, through two years from the date of this certification, and all workers in the group threatened with total or partial separation from employment on date of certification through two years from the date of certification, are eligible to apply for adjustment assistance under Chapter 2 of Title II of the Trade Act of 1974, as amended.

Signed in Washington, DC, this 21st day of June 2010.
Del Min Amy Chen,
Certifying Officer, Division of Trade Adjustment Assistance.

[FR Doc. 2010-16023 Filed 6-30-10; 8:45 am]

BILLING CODE 4510-FN-P